DEPARTMENT OF ENERGY

Federal Energy Regulatory Commission

[Docket No. RP00-601-002]

Dominion Transmission, Inc.; Notice of Compliance Filing

April 12, 2001.

Take notice that on April 9, 2001, Dominion Transmission Inc. (DTI) tendered for filing as part of its FERC Gas Tariff, Third Revised Volume No. 1, the following revised tariff sheet, with a proposed effective date of April 1, 2001:

Substitute First Revised Sheet No. 1500

DTI states that this filing complies with the Commission's March 28, 2001 letter order, which directed DTI to revise its imbalance netting and trading tariff language to require DTI to return to one operational area if conditions permit by changing “may” to “shall”.

DTI states that copies of its letter of transmittal and enclosures have been served upon DTI's customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9554 Filed 4-17-01; 8:45 am]

BILLING CODE 6717-01-M